DEPARTMENT OF LABOR

Employment And Training Administration

Proposed Information Collection Request Submitted for Public Comment and Recommendations; Trade Act Participant Report (TAPR)

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Employment and Training Administration (ETA) is soliciting comments on revised reporting requirements for the Trade Adjustment Assistance (TAA) program. These changes are necessary to collect data to comply with the Trade Reform Act of 2002 and to be able to calculate a set of common performance measures of the outcomes achieved by the TAA program.

DATES: Submit comments on or before September 12, 2005.

ADDRESSES: Send comments to: Dr. Esther R. Johnson, Administrator, Performance and Technology Office, Employment and Training Administration, U.S. Department of Labor, 200 Constitution Avenue, NW., Room S-5206, Washington, DC 20210; telephone: (202) 693-3420 (this is not a toll-free number); fax: (202) 693-3490; e-mail: ETAperforms@dol.gov.

FOR FURTHER INFORMATION CONTACT: Ms. Karen A. Staha, Performance and Technology Office, Employment and Training Administration, U.S. Department of Labor, 200 Constitution Avenue, NW., Room S-5206, Washington, DC 20210; telephone: (202) 693-3420 (this is not a toll-free number); fax: (202) 693-3490; e-mail: ETAperforms@dol.gov.

Copies of the Paperwork Reduction Act Submission Package may be obtained directly at the Web site: http://www.doleta.gov/performance/guidance/ombcontrolnumber.cfm.

SUPPLEMENTARY INFORMATION:

I. Background

On June 16, 1998, the Office of Management and Budget (OMB) approved a Government Performance and Results Act (GPRA) compliant performance and participant outcomes data system for the TAA Program; this system was revised in 2000 and is known as the Trade Act Participant Report (TAPR). States implemented use of the TAPR beginning with the first quarter of the fiscal year 1999 (October through December, 1998), and have continued to collect and report data every quarter since then.

In 2001, under the President's Management Agenda, OMB and other Federal agencies developed a set of common performance measures to be applied to certain Federally-funded employment and training programs with similar strategic goals. As part of this initiative, ETA initially issued Training and Employment Guidance Letter (TEGL) 15-03 and has more recently issued TEGL 28-04, Common Measures Policy, which rescinded TEGL 15-03 and reflected updates to the policy. The value of implementing common measures is the ability to describe in a similar manner the core purposes of the workforce system—how many people found jobs; did they keep their jobs; and what were their earnings. Multiple sets of performance measures have burdened states and grantees as they are required to report performance outcomes based on varying definitions and methodologies. By minimizing the different reporting and performance requirements, implementing a set of common performance measures can facilitate the integration of service delivery, reduce barriers to cooperation among programs, and enhance the ability to assess the effectiveness and impact of the workforce investment system, including the performance of the system in serving individuals facing significant barriers to employment.

The common measures are an integral part of ETA's performance accountability system, and ETA will continue to collect from grantees the data on program activities, participants, and outcomes that are necessary for program management and to convey full and accurate information on the performance of workforce programs to policymakers and stakeholders.

This revision to the TAA program reporting system identifies a minimum level of information collection that is necessary to comply with Equal Opportunity requirements, holds states appropriately accountable for the Federal funds they receive, assesses progress against a set of common performance measures, and allows the Department to fulfill its oversight and management responsibilities.

The Employment and Training Administration is proposing similar changes to the reporting requirements for the Workforce Investment Act (WIA) title 1B and Wagner-Peyser Act programs. Please note that ETA will seek comments regarding changes to information collection for these programs in separate Federal Register notices.

The following three adult common performance measures apply to the TAA program:

• Entered Employment

• Employment Retention[EXTRACT][Q P='04'][EXTRACT]

• Six Months Earnings Increase

States are currently required to submit data according to measures established under the GPRA, which include entered employment, retention, and wage replacement. While the GPRA measures for TAA were similar to the common measures, the data elements that are needed to do the calculations are slightly different, requiring modifications to the definitions and record layout of the TAPR. Changes to the TAPR include:

• Addition of a field that tracks employment status at participation, because the entered employment rate under the common performance measures is calculated only for those participants who were not employed when they began participating in the program.

• Addition of a field that tracks the reason the individual exited the program, because individuals who exited due to certain reasons, such as becoming institutionalized, are excluded from calculations of common measures.

• Addition of a field tracking whether the individual was employed in the second quarter after program exit, which is used to calculate the retention rate measure.

• Addition of fields for the state to specify the method used to determine the individual's employment status in each of the first, second, and third quarters after program exit.

• Change in definition in two fields that tracked wages in the second and third quarters prior to separation under the GPRA measures; these fields will be used to track wages in the second and third quarters prior to participation to be able to calculate the six months earnings increase measure.

• Change in the field that tracks receipt of a training waiver from a yes/no field to one where one of the allowable reasons for granting a training waiver under the Trade Act of 2002 is specified.

• Change from one field that tracks whether the individual received basic Trade Readjustment Allowance (TRA), additional TRA, or both, to three fields where the number of weeks of each type of TRA is tracked. These fields will allow a closer look at whether the additional weeks of TRA provided under the Trade Act of 2002 are being utilized and whether they improve participant outcomes.

• Change in reporting instructions to indicate that states are required to report whether co-enrollment in Workforce Investment Act (WIA) or other partner programs has occurred for TAA program participants.

II. Desired Focus of Comments

Currently, the Department is soliciting comments concerning the revised information collection request for the TAA program in order to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed ICR can be obtained by contacting the office listed above in the addressee section of this notice.

III. Current Actions

Type of Review: Revision.

Agency: Department of Labor, Employment and Training Administration.

Title: Trade Act Participant Report (TAPR).

OMB Number: 1205-0392.

Recordkeeping: Three years for states.

Affected Public: State, local or tribal governments.

Cite/Reference/Form/etc: Trade Adjustment Assistance Reform Act of 2002, see table below for list of forms.

Total Respondents: 50 states.

Frequency: Quarterly.

Total Responses: 50 submissions annually—each state submits TAPR files each quarter.

Average Time per Response: 2.8 hours.

Estimated Total Burden Hours:

TAA burden | Annual national participants | Hours per TAPR record | Annual TAPR burden hours | Applicable hourly rate | Annual TAPR burden dollars
Data collection | 30,000 | 0.3 | 9,000 | $32.50 | $292,500
TAPR submission | 50 | 2.5 | 500 | 32.50 | 16,250
Total |  |  |  |  | 308,750

Total Burden Cost (capital/startup): $0.

Total Burden Cost (operating/maintaining: $308,750.

Comments submitted in response to this notice will be summarized and/or included in the request for OMB approval of the information collection request; they will also become a matter of public record.

Signed in Washington, DC, on July 6, 2005.
Emily Stover DeRocco,
Assistant Secretary for Employment and Training.

[FR Doc. E5-3694 Filed 7-12-05; 8:45 am]

BILLING CODE 4510-30-P